DEPARTMENT OF THE INTERIOR

National Park Service

[N6365; NPS-WASO-NAGPRA-NPS0040631; PPWOCRADN0-PCU00RP14.R50000]

Notice of Intended Repatriation: University of California, Berkeley, Berkeley, CA

AGENCY: National Park Service, Interior.

ACTION: Notice.

SUMMARY: In accordance with the Native American Graves Protection and Repatriation Act (NAGPRA), the University of California, Berkeley intends to repatriate certain cultural items that meet the definition of objects of cultural patrimony and that have a cultural affiliation with the Indian Tribes or Native Hawaiian organizations in this notice.

DATES: Repatriation of the cultural items in this notice may occur on or after August 29, 2025.

ADDRESSES: Send additional, written requests for repatriation of the cultural items in this notice to Alexandra Lucas, University of California, Berkeley, 200 California Hall, Berkeley, CA 94720, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

Between 1954 and 1955, various individuals with the University of California Archaeological Survey removed 16 lots of objects of cultural patrimony from CA-RIV-56 in Riverside County, CA. The objects of cultural patrimony include pottery, worked stone, worked bone, projectile points, crystals, and faunal remains.

In 1881 S. B. Parrish removed one object of cultural patrimony from “Whitewater Ranch on edge of Colorado Desert, Riverside, Co.” The object was donated to the University of California Museum of Anthropology (today the Phoebe A. Hearst Museum of Anthropology) by S. B. Parrish and W. A. Setchall in 1937. The object of cultural patrimony is a steatite bowl.

A.E. Michelbacher, a professor of entomology at the University of California Berkeley, gifted two objects of cultural patrimony from Thousand Palms, Riverside County, CA to the University of California Museum of Anthropology in 1943. The objects of cultural patrimony are pottery.

Collections and collection spaces at the Phoebe A Hearst Museum of Anthropology were treated with substances for preservation and pest control, some potentially hazardous. No records have been found to date at the Museum to indicate whether or not chemicals or natural substances were used prior to 1960.

Determinations

The University of California, Berkeley has determined that:

• The 19 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Agua Caliente Band of Cahuilla Indians of the Agua Caliente Indian Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 29, 2025. If competing requests for repatriation are received, the University of California, Berkeley must determine the most appropriate requestor prior to repatriation. Requests for joint repatriation of the cultural items are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: July 16, 2025.
Mariah Soriano,
Acting Manager, National NAGPRA Program.

[FR Doc. 2025-14367 Filed 7-29-25; 8:45 am]

BILLING CODE 4312-52-P